DEPARTMENT OF TRANSPORTATION

Pipeline and Hazardous Materials Safety Administration (PHMSA)

[Docket No.: PHMSA-2025-0680]

Pipeline Safety: Gas and Liquid Pipeline Advisory Committees

AGENCY: Pipeline and Hazardous Materials Safety Administration (PHMSA), U.S. Department of Transportation (DOT).

ACTION: Notice; solicitation of nominations for membership.

SUMMARY: The Department solicits nominations for membership to serve on the Technical Pipeline Safety Standards Committee, also known as the Gas Pipeline Advisory Committee (GPAC), and the Technical Hazardous Liquid Pipeline Safety Standards Committee, also known as the Liquid Pipeline Advisory Committee (LPAC). GPAC and LPAC are Federal advisory committees that review and provide recommendations on standards affecting pipeline safety.

DATES: Nominations for GPAC and LPAC members must be received on or before October 2, 2025.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. EST, Monday through Friday, except Federal holidays.

FOR FURTHER INFORMATION CONTACT: Joseph Berry, Transportation Specialist, by email at joseph.berry1@dot.gov, or by phone at 720-601-3577. Interested parties can also access information about GPAC and LPAC by visiting PHMSA's website at: https://www.phmsa.dot.gov/standards-rulemaking/pipeline/pipeline-advisory-committees.

SUPPLEMENTARY INFORMATION: GPAC and LPAC (“the Committees”) were established by the Secretary of Transportation (Secretary) in accordance with 49 United States Code (U.S.C.) 60115 and are operated in accordance with the Federal Advisory Committee Act, 5 U.S.C. Ch. 10. The purpose of the Committees is to review and provide recommendations on the technical feasibility, reasonableness, cost-effectiveness, and practicability of proposed amendments to PHMSA's Federal pipeline safety standards. The Committees also review and provide recommendations on the risk assessments that PHMSA prepares to support those proposed amendments.

The Committees are subject to renewal every two years and are expected to meet approximately four times each calendar year. Unless otherwise required by law or approved by the Secretary, all meetings will be held virtually.

In this notice, the Department is soliciting nominations for membership to the Committees. The Committees provide advice to the Secretary and PHMSA and report to the Associate Administrator for Pipeline Safety. Members are appointed by the Secretary after consultation with public and private agencies that are concerned with the technical aspect of gas or hazardous liquid transportation or the operation of pipeline facilities. GPAC members must be experienced in the safety regulation of gas transportation and pipeline facilities or must be qualified technically to evaluate gas pipeline safety standards or risk-management principles by their training, experience, or knowledge in one or more fields of engineering applicable to the transportation of gas or operation of a gas pipeline facility. LPAC members must be experienced in the safety regulation of transporting hazardous liquid and of hazardous liquid pipeline facilities or technically qualified—by training, experience, or knowledge in at least one field of engineering applicable to transporting hazardous liquid or operating a hazardous liquid pipeline facility—to evaluate hazardous liquid pipeline safety standards or risk management principles.

The Committees shall each comprise approximately 15 members that include: (1) five members from departments, agencies, and instrumentalities of the Federal Government and the States; (2) five members from the natural gas or hazardous liquid industry, selected in consultation with industry representatives; and (3) five members from the public. Two of the government members of each Committee must be State officials. In addition, each Committee must have at least three industry members who currently participate in the active operation of natural gas or hazardous liquid pipelines or pipeline facilities, while at least one industry member must have a background, education, or experience in risk assessment and cost-benefit analysis. Each Committee must have two public members who have a background, education, or experience in environmental protection or public safety, while at least one public member must have a background, education, or experience in risk assessment and cost-benefit analysis. At least one public member of each Committee may not have any financial interest in the pipeline, petroleum, or natural gas industries. Finally, no public member of a Committee may have a significant financial interest in the pipeline, petroleum, or natural gas industries.

Members will serve three-year terms but may be reappointed. Past members of the Committees are welcome to apply. The Department is interested in ensuring membership is balanced fairly in terms of the points of view represented and the functions to be performed by each Committee. PHMSA is also interested in applicants who can provide recommendations on the technical feasibility, reasonableness, cost-effectiveness, and practicability of proposed amendments to the Federal pipeline safety standards and on the risk assessments that PHMSA prepares to support those amendments.

Process and Deadline for Submitting Nominations: Qualified individuals can self-nominate or be nominated by any individual or organization. To be considered for the Committees, nominators should submit the following information:

(1) Name, title, and relevant contact information (including phone, fax, and email address) of the individual requesting consideration.

(2) A letter of support from a company, union, trade association, academic, or nonprofit organization on letterhead containing a brief description of why the nominee should be considered for membership.

(3) Short biography of nominee, including professional and academic credentials.

(4) An affirmative statement that the nominee meets all Committee eligibility requirements.

Please do not send company, trade association, or organization brochures, or any other information. Materials submitted should total two pages or less. Should more information be needed, DOT staff will contact the nominee, obtain information from the nominee's past affiliations, or obtain information from publicly available sources, such as the internet.

Nominations must be received before October 2, 2025. Nominees selected for appointment to the Committees will be notified by return email and by a letter of appointment.

Issued in Washington, DC, on August 27, 2025.
Linda Daugherty,
Acting Associate Administrator for Pipeline Safety.

[FR Doc. 2025-16717 Filed 8-29-25; 8:45 am]

BILLING CODE 4910-60-P